ENVIRONMENTAL PROTECTION AGENCY

40 CFR Part 52

[EPA-R03-OAR-2013-0408; FRL-9970-83-Region 3]

Air Plan Approval; Delaware; State Implementation Plan for Interstate Transport for the 2008 Ozone Standard; Withdrawal of Direct Final Rule

AGENCY: Environmental Protection Agency (EPA).

ACTION: Withdrawal of direct final rule.

SUMMARY: Due to adverse comments received, the Environmental Protection Agency (EPA) is withdrawing the September 27, 2017 direct final rule that approved a revision to the Delaware state implementation plan (SIP) related to the interstate transport of air pollution for the 2008 ozone national ambient air quality standards (NAAQS). EPA stated in the direct final rule that if EPA received adverse comments by October 27, 2017, the rule would be withdrawn and not take effect. EPA subsequently received adverse comments. EPA will address the comments received in a subsequent final rulemaking action based upon the proposed approval action for the same SIP submittal which was also published on September 27, 2017. EPA will not institute a second comment period on this action.

DATES: The direct final rule published at 82 FR 44932 on September 27, 2017 is withdrawn effective November 20, 2017.

FOR FURTHER INFORMATION CONTACT: Ellen Schmitt, (215) 814-5787 or at schmitt.ellen@epa.gov.

SUPPLEMENTARY INFORMATION: The SIP revision was formally submitted by the State of Delaware, through the Delaware Department of Natural Resources and Environmental Control (DNREC), on March 27, 2013. The March 2013 SIP revision was submitted in order to satisfy the requirements of section 110(a)(2) of the Clean Air Act (CAA) for the 2008 ozone NAAQS. The September 27, 2017 direct final rule action addressed one portion of the March 2013 submittal, finding that Delaware has fully satisfied prongs 1 and 2 of section 110(a)(2)(D)(i)(I) of the CAA for the 2008 ozone NAAQS. EPA had previously acted on other portions of Delaware's March 27, 2013 SIP submittal.

In the direct final rule published on September 27, 2017 (82 FR 44932), EPA stated that if the Agency received adverse comment by October 27, 2017, the rule would be withdrawn and not take effect. EPA subsequently received adverse comments from anonymous commenters. As a result of the comments received, EPA is withdrawing the direct final rule approving the revision to the Delaware SIP to reflect the interstate transport of air pollution for the 2008 ozone NAAQS. EPA will respond to the adverse comments in a subsequent final rulemaking action.

List of Subjects in 40 CFR Part 52

Environmental protection, Air pollution control, Incorporation by reference, Nitrogen dioxide, Ozone, Reporting and recordkeeping requirements, Volatile organic compounds.

Dated: November 3, 2017.
Cosmo Servidio,
Regional Administrator, Region III.

Accordingly, the amendments to 40 CFR 52.420(e) published on September 27, 2017 (82 FR 44932), are withdrawn effective November 20, 2017.

[FR Doc. 2017-25022 Filed 11-17-17; 8:45 am]

BILLING CODE 6560-50-P